DEPARTMENT OF HOUSING AND URBAN DEVELOPMENT

[Docket No. FR-5496-N-04]

Notice of a Federal Advisory Committee Meeting; Manufactured Housing Consensus Committee

AGENCY: Office of the Assistant Secretary for Housing—Federal Housing Commissioner, Department of Housing and Urban Development (HUD).

ACTION: Notice of a Federal advisory committee meeting.

SUMMARY: This notice sets forth the schedule and proposed agenda for a meeting of the Manufactured Housing Consensus Committee (MHCC). The meeting is open to the public and the site is accessible to individuals with disabilities. The Agenda provides an opportunity for citizens to comment on the business before the Committee.

DATES: The meeting will be held on October 18-20, 2011, commencing at 9 a.m. each day.

ADDRESSES: The meeting will be held at The Sheraton Suites Alexandria, 801 North Saint Asaph Street, Alexandria, Virginia 22314.

FOR FURTHER INFORMATION CONTACT: Henry S. Czauski, Acting Deputy Administrator, Office of Regulatory Affairs and Manufactured Housing, Department of Housing and Urban Development, 451 7th Street, SW., Room 9153, Washington, DC 20410, telephone number 202-708-0502 ext. 6477 (this is not a toll-free number). Persons who have difficulty hearing or speaking may access this number via TTY by calling the toll-free Federal Relay Service at 800-877-8339.

SUPPLEMENTARY INFORMATION: Notice of this meeting is provided in accordance with the Federal Advisory Committee Act, 5 U.S.C. App. 10(a)(2), through implementing regulations at 41 CFR 102-3.150. The Manufactured Housing Consensus Committee was established under section 604(a)(3) of the National Manufactured Housing Construction and Safety Standards Act of 1974, 42 U.S.C. 5403(a)(3).

Public Comment: Citizens wishing to comment on the business of the Committee are encouraged to register on or before October 14, 2011, by contacting: The National Fire Protection Association, Attention: Robert Solomon, by mail to: One Batterymarch Park, P.O. Box 9101, Quincy, Massachusetts 02269, or by fax to 617-984-7110, or by e-mail to mhccaooffice@nfpa.org. Please prepare written comments to accompany your presentation. The Committee strives to accommodate citizen comment to the extent possible within the time constraints of its meeting Agenda. Advance registration is strongly encouraged. The Committee will also provide an opportunity for public comment on specifically matters before the Committee.

Tentative Agenda: October 18, 2011, 9 a.m. to 5 p.m.; October 19, 2011, 9 a.m. to 5 p.m.; October 20, 2011, 9 a.m. to Noon.

October 18, 2011

9 a.m. Federal Advisory Committee Preliminaries, Review/Approve Minutes of the July, 2011 Meeting.

10:30 a.m. Recess for Subcommittee meetings.

October 19, 2011

9 a.m. to 5 p.m.

October 20, 2011

9 a.m. to noon.

Report from HUD Manufactured Housing Program Office.

Review Log of Proposals.

Subcommittee Reports.

Public Comments (a public comments period will be provided on October 19 and October 20).

Receive/consider Proposals.

October 20, 2011

Adjourn at noon.

Dated: October 4, 2011.
Carol J. Galante,
Acting Assistant Secretary for Housing—Federal Housing Commissioner.

[FR Doc. 2011-26038 Filed 10-4-11; 4:15 pm]

BILLING CODE 4210-67-P